DEPARTMENT OF TRANSPORTATION

Office of the Secretary, Washington, DC

Application of Tropic Ocean Airways, LLC for Commuter Authority

AGENCY: Department of Transportation.

ACTION: Notice of Order to Show Cause (Order 2016-7-2), Docket DOT-OST-2015-0259.

SUMMARY: The Department of Transportation is directing all interested persons to show cause why it should not issue an order finding Tropic Ocean Airways, LLC, fit, willing, and able, and awarding it Commuter Air Carrier Authorization.

DATES: Persons wishing to file objections should do so no later than July 15, 2016.

ADDRESSES: Objections and answers to objections should be filed in Docket DOT-OST-2015-0259 and addressed to U.S. Department of Transportation, Docket Operations, (M-30, Room W12-140), 1200 New Jersey Avenue SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue SE., Washington, DC 20590, (202) 366-7785.

Dated: July 1, 2016.
Jenny T. Rosenberg,
Acting Assistant Secretary for Aviation and International Affairs.

[FR Doc. 2016-16195 Filed 7-7-16; 8:45 am]

BILLING CODE 4910-9X-P